Title 3—

The President

Proclamation 7352 of October 5, 2000

German-American Day, 2000

By the President of the United States of America

A Proclamation

As we celebrate German-American Day and the many contributions that German Americans have made to our national community, we also mark the 10th anniversary of German unification. The historic achievements of the last 10 years are all the more remarkable when we remember the dark days of the Cold War, a time when many citizens in Eastern Europe and around the globe lived under governments of oppression and tyranny. Nowhere was the threat more real than in West Berlin, where Americans and Germans stood together in defense of democracy and commitment to freedom. Ultimately, after almost three decades of division, the Berlin Wall came down and the people of Germany were reunited. Today, Americans and Germans are working together to ensure that democracy will be an abiding legacy for future generations throughout Europe.

Our present efforts are only the latest chapter of our shared history. In 1683, German Mennonites seeking religious tolerance landed near Philadelphia. Their arrival marked the beginning of waves of German immigration that would ebb and flow with the tides of history, ultimately bringing more than 7 million people to our shores. Today, nearly a quarter of all Americans can trace their ancestry back to their Germanic roots, and they continue to enrich our Nation with a proud heritage marked by a strong commitment to family, work, duty, and country.

Many prominent German Americans have strengthened our society through the years. Publisher Johann Peter Zenger championed freedom of the press in the early 18th century, and Thomas Nast's powerful cartoons increased public awareness of corruption within Tammany Hall in 19th-century New York. During the American Revolution, Baron de Kalb and Friedrich von Steuben fought valiantly for our freedom, just as Dwight Eisenhower and Chester Nimitz did in World War II. German Americans who have enriched America's cultural, scientific, and economic life include writers John Steinbeck and Erich Maria Remarque; physicists Albert Einstein and Maria Goeppert-Mayer; philosophers Hannah Arendt and Paul Tillich; and industrialists and business leaders John D. Rockefeller and John Wanamaker.

Behind the many well-known individuals who have played a prominent part in our history are millions of German immigrants whose names are not widely recognized, yet who profoundly shaped the America we know today. Industrious German Americans helped settle our cities and frontiers; defend democracy during times of conflict; promote our prosperity in times of peace; and preserve the bonds of family and heritage that our Nation shares with the people of Germany. As we celebrate German-American Day and the 10th anniversary of German unification and look ahead to the promise of a new century, America recognizes with pride and gratitude the important role that German Americans continue to play in the life of our Nation and celebrates the strength of our friendship with Germany.

NOW, THEREFORE, I, WILLIAM J. CLINTON, President of the United States of America, by virtue of the authority vested in me by the Constitution and the laws of the United States, do hereby proclaim Friday, October 6, 2000, as German-American Day. I encourage all Americans to remember and celebrate the important contributions made to our country by our millions of citizens of German descent and to celebrate our close ties to the people of Germany.

IN WITNESS WHEREOF, I have hereunto set my hand this fifth day of October, in the year of our Lord two thousand, and of the Independence of the United States of America the two hundred and twenty-fifth.

wj

[FR Doc. 00-26298

Filed 10-10-00; 8:45 am]

Billing code 3195-01-P